DEPARTMENT OF COMMERCE

National Oceanic and Atmospheric Administration

[I.D. 061203B]

Proposed Information Collection; Comment Request; Subsistence Fishery for Pacific Halibut in Waters off Alaska, Annual Survey

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before August 18, 2003.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Patsy A. Bearden at 907-586-7228 or at patsy.bearden@noaa.gov.

SUPPLEMENTARY INFORMATION:

I. Abstract

This survey is part of a subsistence Pacific halibut program that is intended to allow qualified persons to practice the long-term customary and traditional harvest of Pacific halibut for food in a non-commercial manner. The annual survey would be voluntarily submitted to NOAA to report Pacific halibut catch for the prior year. The catch reports will be used to help track the impacts of the program.

II. Method of Collection

The annual survey may be submitted by mail, FAX, e-mail or by individual post-season interviews.

III. Data

OMB Number: None.

Form Number: None.

Type of Review: Regular submission.

Affected Public: Individuals or households, and not-for-profit institutions.

Estimated Number of Respondents: 8,900.

Estimated Time Per Response: 30 minutes.

Estimated Total Annual Burden Hours: 4,450.

Estimated Total Annual Cost to Public: $8,900.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 10, 2003.
Gwellnar Banks,
Management Analyst, Office of the Chief Information Officer.

[FR Doc. 03-15294 Filed 6-16-03; 8:45 am]

BILLING CODE 3510-22-S